Title 3—

The President

Proclamation 8273 of July 14, 2008

FBI Day, 2008

By the President of the United States of America

A Proclamation

For 100 years, the committed men and women of the Federal Bureau of Investigation have worked diligently to deliver justice and keep Americans safe. On FBI Day, we recognize the Bureau's many accomplishments and pay tribute to all who have served in its ranks with valor and dedication.

The FBI traces its origins to 1908, when under the leadership of President Theodore Roosevelt and Attorney General Charles Bonaparte, a force of Special Agents was created, later to be called the Bureau of Investigation. As a Federal agency with the power to investigate crimes across State lines and enforce Federal law, the FBI has protected our country against threats from abroad and caught dangerous criminals like “Baby Face” Nelson, John Dillinger, Ted Kaczynski, and Ramzi Yousef. Today, the FBI is charged with guarding our Nation from terrorist attacks, combating public corruption and organized crime, resisting cyber attacks, and opposing other high-technology crimes. The FBI also has a deep commitment to civil rights, helping protect the values we cherish.

With an abiding respect for the Constitution, the men and women of the FBI bring strength, impartiality, and devotion to their pursuit of justice. They continue to uphold their motto of “Fidelity, Bravery, Integrity.” On FBI Day, we especially remember the fallen agents who paid the ultimate price in serving our country and keeping our Nation safe.

NOW, THEREFORE, I, GEORGE W. BUSH, President of the United States of America, by virtue of the authority vested in me by the Constitution and laws of the United States, do hereby proclaim July 26, 2008, as FBI Day. I call upon all Americans to recognize the 100th anniversary of the Federal Bureau of Investigation.

IN WITNESS WHEREOF, I have hereunto set my hand this fourteenth day of July, in the year of our Lord two thousand eight, and of the Independence of the United States of America the two hundred and thirty-third.

[FR Doc. 08-1448

Filed 7-16-08; 12:03 pm]

Billing code 3195-W8-P